DEPARTMENT OF HOMELAND SECURITY

Coast Guard

33 CFR Part 100

[Docket No. USCG-2013-0181]

RIN 1625-AA08

Special Local Regulations; Marine Events, Breton Bay; St. Mary's County, Leonardtown, MD

AGENCY: Coast Guard, DHS.

ACTION: Proposed rule; withdrawal.

SUMMARY: The Coast Guard is withdrawing its proposed rule concerning amendments to the regattas and marine parades regulations. The rulemaking was initiated to establish special local regulations during the “Annual Leonardtown Wharf Boat Races,” a marine event to be held on the waters of Breton Bay in St. Mary's County, Maryland on July 13, 2013, and July 14, 2013. The Coast Guard was notified on April 23, 2013, that the event had been cancelled.

DATES: The proposed rule is withdrawn on June 25, 2013.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0181 in the “SEARCH” box, and then clicking “Search.”

FOR FURTHER INFORMATION CONTACT: If you have questions about this notice, call or email Mr. Ronald Houck, Waterways Management Division, Sector Baltimore, MD, U.S. Coast Guard; telephone 410-576-2674, email Ronald.L.Houck@uscg.mil. If you have questions on viewing material in the docket, call Barbara Hairston, Program Manager, Docket Operations, telephone 202-366-9826.

SUPPLEMENTARY INFORMATION:

Background

On April 12, 2013, we published a notice of proposed rulemaking entitled “Special Local Regulations; Marine Events, Breton Bay; St. Mary's County, Leonardtown, MD” in the Federal Register (78 FR 21864). The rulemaking concerned the Coast Guard's proposal to establish temporary special local regulations on specified waters of Breton Bay, in St. Mary's County, MD, effective from 8 a.m. on July 13, 2013 to 5 p.m. on July 14, 2013. The regulated area included all waters of Breton Bay, from shoreline to shoreline, within an area bounded to the east by a line drawn along latitude—38°16′45″ N, and bounded to the west by a line drawn along longitude 076°38′30″ W, located at Leonardtown, MD. The regulations were needed to temporarily restrict vessel traffic during the event to provide for the safety of participants, spectators and other transiting vessels.

Withdrawal

The Coast Guard is withdrawing this rulemaking because the event has been cancelled.

Authority

We issue this notice of withdrawal under the authority of 33 U.S.C. 1233.

Dated: June 3, 2013.
Kevin C. Kiefer,
Captain, U.S. Coast Guard, Captain of the Port Baltimore.

[FR Doc. 2013-15095 Filed 6-24-13; 8:45 am]

BILLING CODE 9110-04-P